ENVIRONMENTAL PROTECTION AGENCY

40 CFR Part 52

[EPA-R04-OAR-2006-0577-200624(a); FRL-8248-9]

Approval and Promulgation of Implementation Plans; Georgia: Removal of Douglas County Transportation Control Measure

AGENCY: Environmental Protection Agency (EPA).

ACTION: Direct final rule.

SUMMARY: On September 19, 2006, the State of Georgia's Department of Natural Resources (DNR), through the Georgia Environmental Protection Division (GA EPD), submitted a final State Implementation Plan (SIP) revision to remove the transportation control measure (TCM) related to a compressed natural gas (CNG) refueling station/park and ride transportation center project in Douglas County, Georgia. This TCM was originally submitted by GA EPD for inclusion into the Atlanta portion of the Georgia SIP on August 29, 1997. EPA approved this TCM into the Georgia SIP through direct final rulemaking published in the Federal Register on June 24, 1998 (effective on August 10, 1998). Subsequently, the project sponsor determined that the equipment necessary to implement this project is no longer available, and thus this TCM cannot be implemented as originally anticipated. No SIP credit was claimed for this program, nor were emissions benefits ever realized for this TCM because it was never implemented. Through this rulemaking, EPA is approving the removal of this TCM from the Atlanta portion of the Georgia SIP because this SIP revision meets Clean Air Act (CAA) requirements.

DATES: This direct final rule is effective January 29, 2007 without further notice, unless EPA receives adverse comment by December 28, 2006. If adverse comment is received, EPA will publish a timely withdrawal of the direct final rule in the Federal Register and inform the public that the rule will not take effect.

ADDRESSES: Submit your comments, identified by Docket ID No. EPA-R04-2006-0577, by one of the following methods:

1. www.regulations.gov.: Follow the on-line instructions for submitting comments.

2. E-mail: Benjamin.lynorae@epa.gov.

3. Fax: (404) 562-9019.

4. Mail: “EPA-R04-OAR-2006-0577,” Air Quality Modeling and Transportation Section, Air Planning Branch, Air, Pesticides and Toxics Management Division, U.S. Environmental Protection Agency, Region 4, 61 Forsyth Street, SW., Atlanta, Georgia 30303-8960.

5. Hand Delivery or Courier: Lynorae Benjamin, Air Quality Modeling and Transportation Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to Docket ID No. “EPA-R04-OAR-2006-0577.” EPA's policy is that all comments received will be included in the public docket without change and may be made available online at www.regulations.gov, including any personal information provided, unless the comment includes information claimed to be Confidential Business Information (CBI) or other information whose disclosure is restricted by statute. Do not submit through www.regulations.gov or e-mail, information that you consider to be CBI or otherwise protected. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Air Quality Modeling and Transportation Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding legal holidays.

FOR FURTHER INFORMATION CONTACT: Lynorae Benjamin, Air Quality Modeling and Transportation Section, Air Planning Branch, Air, Pesticides and Toxics Management Division, U.S. Environmental Protection Agency, Region 4, 61 Forsyth Street, SW., Atlanta, Georgia 30303-8960. The telephone number is (404) 562-9040. Ms. Benjamin can also be reached via electronic mail at Benjamin.lynorae@epa.gov.

SUPPLEMENTARY INFORMATION:

Table of Contents

I. What Action Is EPA Taking?

II. What Is the Background for EPA's Action?

III. What Is a TCM?

IV. Why Is EPA Taking This Action?

V. What Is the Effect of EPA's Action?

VI. What Is EPA's Analysis of the Request?

VII. Final Action

VIII. Statutory and Executive Order Reviews

I. What Action Is EPA Taking?

EPA is approving the removal of the TCM (related to a CNG refueling station in Douglas County, Georgia) from the Atlanta portion of the Georgia SIP. This station would have provided a centralized fueling site for CNG-powered county fleet vehicles, transit vans, and buses for Douglas County.

II. What Is the Background for EPA's Action?

On August 29, 1997, the State of Georgia's DNR, through the GA EPD, submitted a SIP revision to include the TCM related to a CNG refueling station/park and ride transportation center project in Douglas County, Georgia. EPA evaluated this SIP revision and determined that it met the criteria for a TCM and all other SIP requirements. Consequently, EPA approved this TCM into the Atlanta portion of the Georgia SIP through direct final rulemaking on June 24, 1998, effective August 10, 1998 (see 63 FR 34300). This project has been referenced as DO-AR 211 in the Atlanta Regional Commission's (ARC) Transportation Improvement Program (TIP) and Regional Transportation Plan.

Project DO-AR 211 was a planned CNG refueling station that would have been located at the site of the Douglas County multimodal transportation center. This station would have provided a centralized fueling site for CNG-powered county fleet vehicles, transit vans, and buses. The project experienced delays in implementation that were addressed through the interagency consultation process. By the time these issues were fully resolved, production of 12- and 15-passenger CNG vans was being discontinued by Ford and General Motors; thus, Douglas County no longer considered the project viable. Project sponsors were informed through interagency consultation that until (or unless) the project was removed from the SIP, they needed to continue to show progress towards implementing the project.

In a letter dated March 28, 2006, from Mr. Tom Worthan of Douglas County to Mr. Charles “Chick” Krautler of ARC, Douglas County formally notified ARC of their complications for implementing this TCM. Additionally, this letter requested that ARC initiate the process to remove this TCM from the SIP. Based on the March 28, 2006, letter, ARC contacted the GA EPD and requested that a SIP revision be developed, for submittal to EPA, to remove this TCM from the Atlanta portion of the Georgia SIP.

III. What Is a TCM?

Pursuant to 40 CFR 93.101 (the Transportation Conformity Rule), a TCM is “any measure that is specifically identified and committed to in the applicable implementation plan (SIP) that is either one of the types listed in section 108 of the CAA, or any other measure for the purposes of reducing emissions or concentrations of air pollutants from transportation sources by reducing vehicle use or changing traffic flow or congestion conditions.” Section 108(3) of the CAA provides air quality planning guidance for the development and implementation of transportation and other measures necessary to demonstrate and maintain attainment of the national ambient air quality standards (NAAQS). Section 108(f)(1)(A) of the CAA lists sixteen TCMs for consideration by states and planning agencies to reduce emissions and maintain the NAAQS. Programs to reduce motor vehicle emissions consistent with title II of the CAA are listed in section 108(f)(1)(A)(xii).

TCMs are included in the SIP to help reduce emissions from on-road mobile sources. If EPA approves a TCM into an area's SIP, the transportation partners must show as part of the conformity determination, that these measures are being implemented on schedule and given priority for Federal funding. SIPs must be revised to remove any TCMs that the sponsor cannot implement so that failure to implement them does not prohibit conformity determinations.

IV. Why Is EPA Taking This Action?

EPA is taking this action because the GA EPD's September 19, 2006, SIP submittal requests that we take this action, and because we believe that this SIP revision is consistent with the CAA. More explanation is provided later in this rulemaking in Section VI, entitled “What is EPA's Analysis of the Request?”

V. What Is the Effect of EPA's Action?

Upon the effective date of this action, the transportation partners in the Atlanta area will no longer be required to evaluate the progress of this TCM for the purposes of implementing the transportation conformity requirements. The Transportation Conformity Rule (40 CFR part 93) requires that the status of TCMs be documented as one of the criteria for an area to successfully demonstrate conformity.

VI. What Is EPA's Analysis of the Request?

EPA has reviewed the SIP submission, provided by the GA EPD on September 19, 2006, to remove the TCM related to a CNG refueling station/park and ride transportation center project in Douglas County, Georgia, and has determined that this SIP revision request is consistent with the CAA. This SIP revision was prompted by a March 28, 2006, letter, from Mr. Tom Worthan of Douglas County to Mr. Charles “Chick” Krautler of ARC, by which Douglas County formally informed ARC of their complications for implementing this TCM. As a result of the letter from Douglas County, ARC contacted the GA EPD and requested that a SIP revision be developed, for submittal to EPA, to remove this TCM from the Atlanta portion of the Georgia SIP.

This TCM, which is described in detail in Section I of this rulemaking, could not be implemented as originally envisioned because of the project sponsor's inability to acquire the necessary equipment. Although the GA EPD requested on August 1997 that the TCM be approved in the Georgia SIP, no emissions credit was claimed in the SIP for the measure. In fact, the emissions analysis was reviewed only to determine that no further air quality degradation would result from the implementation of this TCM. EPA documented this fact in the rulemaking approving the TCM in the Georgia SIP (see 63 FR 34300).

Since the project was not implemented, it did not result in emission reductions, and removing it from the SIP will cause no degradation of air quality. Thus this revision is consistent with the CAA, specifically section 110(l) which states the following:

Each revision to an implementation plan submitted by a State under this Act shall be adopted by such State after reasonable notice and public hearing. The Administrator shall not approve a revision of a plan if the revision would interfere with any applicable requirement concerning attainment and reasonable further progress (as defined in section 171), or any other applicable requirement of the Act.

After full analysis of the State's submittal, EPA is approving this SIP revision because it is consistent with the CAA.

VII. Final Action

Through this rulemaking, EPA is approving the removal of the TCM (related to a CNG refueling station in Douglas County, Georgia) from the Atlanta portion of the Georgia SIP. This SIP revision is consistent with CAA requirements. EPA is publishing this rule without prior proposal because the Agency views this as a noncontroversial submittal and anticipates no adverse comments. However, in the proposed rules section of this Federal Register publication, EPA is publishing a separate document that will serve as the proposal to approve the SIP revision should adverse comments be filed. This rule will be effective January 29, 2007 without further notice unless the Agency receives adverse comments by December 28, 2006.

If the EPA receives such comments, then EPA will publish a document withdrawing the final rule and informing the public that the rule will not take effect. All public comments received will then be addressed in a subsequent final rule based on the proposed rule. EPA will not institute a second comment period. Parties interested in commenting should do so at this time. If no such comments are received, the public is advised that this rule will be effective on January 29, 2007 and no further action will be taken on the proposed rule.

VIII. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule removes a TCM under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the states, on the relationship between the national government and the states, or on the distribution of power and responsibilities among the various levels of government, as specified in Executive Order 13132 (64 FR 43255, August 10, 1999). This action merely removes a TCM under state law, and does not alter the relationship or the distribution of power and responsibilities established in the Clean Air Act. This rule also is not subject to Executive Order 13045 “Protection of Children from Environmental Health Risks and Safety Risks” (62 FR 19885, April 23, 1997), because it is not economically significant and because the Agency does not have reason to believe that the rule concerns an environmental health risk or safety risk that may disproportionately affect children.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 29, 2007. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Nitrogen dioxide, Ozone, Particulate matter, Reporting and recordkeeping requirements, Volatile organic compounds.

Authority: 42 U.S.C. 7401 et seq.

Dated: November 13, 2006.
A. Stanley Meiburg,
Acting Regional Administrator, Region 4.

40 CFR part 52 is amended as follows:

PART 52—[AMENDED]

1. The authority citation for part 52 continues to read as follows:

Authority: 42 U.S.C. 7401 et seq.

Subpart L—Georgia

2. Section 52.570(e) is amended by adding a entry at the end of the table for “Douglas County, GA” to read as follows:

§ 52.570 Identification of plan.

* * * * *

(e) * * *

EPA Approved Georgia Nonregulatory Provisions
Name of nonregulatory SIP provision | Applicable geographic or nonattainment area | State submittal date/effective date | EPA approval date
* * * * * * *
Alternative Fuel Refueling Station/Park and Ride Transportation Center, Project DO-AR-211 is removed | Douglas County, GA | 09/19/06 | 11/28/06 [Insert citation of publication].

[FR Doc. E6-20141 Filed 11-27-06; 8:45 am]

BILLING CODE 6560-50-P